DEPARTMENT OF THE INTERIOR

National Park Service

Notice of Availability of a Finding of No Significant Impact for the 2003 Telecommunications Facilities Environmental Assessment, Rock Creek Park, Washington, DC

SUMMARY: Pursuant to the National Environmental Policy Act (NEPA), Telecommunications Act of 1996, and the July 2002, Order of the U.S. District Court for the District of Columbia in Audubon Naturalist Society of the Central Atlantic States, Inc. et al. v. National Park Service (NPS) and Bell Atlantic Mobile, Inc., the National Park Service prepared and made available for a 36-day public review an Environmental Assessment (EA) evaluating the potential impacts to the human and natural environment from two existing cellular communications towers located within Rock Creek Park, Washington, DC.

After the end of the 36-day public review period, the NPS selected for implementation, the preferred alternative as described in the EA, and determined that implementation of the preferred alternative will not have a significant impact on the quality of the human environment and that an environmental impact statement is not required. In making that selection and determination, the NPS considered the information and analysis contained in the EA and the comments received during the public review period. The NPS has prepared a Finding of No Significant Impact (FONSI) for the project. The NPS' decision was filed with the court pursuant to a June 20, 2003 court deadline.

The selected alternative allows the continued operation of the two wireless telecommunications facilities as presently located, with the NPS developing a park-wide telecommunications plan and a monitoring program for migratory birds.

SUPPLEMENTARY INFORMATION: Copies of the FONSI are available at http://www.nps.gov/rocr and the following public libraries: Martin Luther King Memorial Library, 901 G Street NW., Washington, DC 20001; Chevy Chase Library, 5625 Connecticut Avenue NW., Washington, DC 20015; Cleveland Park Library, 3310 Connecticut Avenue NW., Washington, DC 20008; Georgetown Library, 3260 R Street NW., Washington, DC 20007; Juanita Thorton Shepard Park Branch Library, 7420 Georgia Avenue NW., Washington, DC 20012; Langston Community Library, 2600 Bennet Road NE., Washington, DC 20019; Mt. Pleasant Library, 1600 Lamont Street NW., Washington, DC 20010; Northeast Branch Library, 330 7th Street NE., Washington, DC 20002; Petworth Branch Library, 4200 Kansas Avenue NW., Washington, DC 20011; Tenly-Friendship Branch Library, 4450 Wisconsin Avenue NW., Washington, DC 20016; Watha T. Daniel Library, 1701 8th Street NW., Washington, DC 20001; Woodbridge Library, 1801 Hamlin Street NE., Washington, DC 20018; Library of Congress, 101 Independence Avenue SE., Washington, DC 20540; Palisades, 4901 V Street NW., Washington, DC 20007; Sursum Corda Community Library, 135 New York Avenue NW., Washington, DC 20001. You may also request a hard copy at (202) 895-6000.

FOR FURTHER INFORMATION CONTACT: Adrienne Coleman, Superintendent, Rock Creek Park, at 3545 Williamsburg Lane NW., Washington, DC 20008-1207, or by telephone at (202) 895-6004.

Dated: June 20, 2003.
Terry R. Carlstrom,
Regional Director, National Capital Region.

[FR Doc. 03-18698 Filed 7-22-03; 8:45 am]

BILLING CODE 4310-71-P